DEPARTMENT OF DEFENSE

Office of the Secretary

Threat Reduction Advisory Committee; Notice of Federal Advisory Committee Meeting

AGENCY: Office of the Under Secretary of Defense (Acquisition, Technology and Logistics), Department of Defense.

ACTION: Federal Advisory Committee meeting notice.

SUMMARY: The Department of Defense is publishing this notice to announce the following Federal advisory committee meeting of the Threat Reduction Advisory Committee (TRAC). This meeting will be closed to the public.

DATES: Wednesday, April 2, 2014, from 8:30 a.m. to 3:30 p.m. and Thursday, April 3, 2014, from 8:30 a.m. to 4:30 p.m.

ADDRESSES: The Pentagon Conference Center, Arlington, Virginia on April 2 and CENTRA Technology Inc., Ballston, Virginia on April 3.

FOR FURTHER INFORMATION CONTACT: Mr. William Hostyn, DoD, Defense Threat Reduction Agency/J2/5/8R-AC, 8725 John J. Kingman Road, MS 6201, Fort Belvoir, VA 22060-6201. Email: william.hostyn@dtra.mil. Phone: (703) 767-4453. Fax: (703) 767-4206.

SUPPLEMENTARY INFORMATION: Due to difficulties finalizing the meeting agenda for the scheduled meeting of April 2-3, 2014, of the Threat Reduction Advisory Committee the requirements of 41 CFR § 102-3.150(a) were not met. Accordingly, the Advisory Committee Management Officer for the Department of Defense, pursuant to 41 CFR § 102-3.150(b), waives the 15-calendar day notification requirement.

Purpose of Meeting: This meeting is being held under the provisions of the Federal Advisory Committee Act of 1972 (FACA) (5 U.S.C., Appendix, as amended), the Government in the Sunshine Act of 1976 (5 U.S.C. 552b, as amended), and 41 CFR 102-3.150. The Committee will obtain, review and evaluate classified information related to the Committee's mission to advise on technology security, Combating Weapons of Mass Destruction (C-WMD), counter terrorism and counter proliferation.

Agenda: On Wednesday, April 2, the TRAC will hold a joint session with the Department of State's International Security Advisory Board (ISAB) during which time the two committees will share information about their efforts in areas of shared responsibility. Acting Deputy Secretary of Defense Christine Fox, Honorable Rose Gottemoeller, and Honorable Frank Kendall will provide opening remarks to the committee members. Following the opening remarks, the members will receive two classified briefings on the ISAB's work with U.S.-Russia relations and International Cyber Stability. The CIA and DIA will provide a classified briefing on U.S.-Russia relations during the lunch session. At the afternoon session, the members will receive two classified briefings on the TRAC's work with Nuclear Strategic Stability and the Future of the Cooperative Threat Reduction Program. The meeting will wrap up with a final discussion on the briefings of the day. The Committees will not deliberate nor develop advice and recommendations for either the Department of State or the Department of Defense. The TRAC members only will continue to meet on April 3, 2014. The TRAC will hold classified discussions to deliberate on their review of DoD's Global Combating WMD Awareness System (GCAS) program. The GCAS program is structured to support DoD in its roles to identify, reduce, and mitigate the threat of WMD development, proliferation, and use worldwide. The Committee will provide an assessment on the program's ability to meet that goal. This will be followed by classified deliberations on the future of the Cooperative Threat Reduction Program (CTR). The Committee was asked to provide recommendations for the Office of the Under Secretary of Defense (Policy) regarding the development of a strategy for articulating the DoD CTR story, how best to coordinate with Combatant Commands on the use of the CTR program, and a strategy to advocate for the program with key stakeholders. The session will conclude with a classified discussion on the way ahead.

Meeting Accessibility: Pursuant to 5 U.S.C. 552b, and 41 CFR 102-3.155, the Department of Defense has determined that the meeting of the TRAC on April 2-3, 2014, shall be closed to the public. The Department of State will make its own closed meeting determination for the ISAB. The Under Secretary of Defense for Acquisition, Technology and Logistics, in consultation with the DoD FACA Attorney, has determined in writing that the public interest requires all sessions of this meeting be closed to the public because the discussions and sharing of information will be concerned with classified information and matters covered by 5 U.S.C. 552b(c)(1). Such classified matters are inextricably intertwined with the unclassified material and cannot reasonably be segregated into separate discussions without disclosing secret material.

Committee's Designated Federal Officer or Point of Contact: Mr. William Hostyn, DoD, Defense Threat Reduction Agency/J2/5/8R-AC, 8725 John J. Kingman Road, MS 6201, Fort Belvoir, VA 22060-6201. Email: william.hostyn@dtra.mil. Phone: (703) 767-4453. Fax: (703) 767-4206.

Written Statements: Pursuant to 41 CFR 102-3.105(j) and 102-3.140, and section 10(a)(3) of FACA, the public or interested organizations may submit written statements to the membership of the Committee at any time or in response to the stated agenda of a planned meeting. Written statements should be submitted to the Committee's Designated Federal Officer. The Designated Federal Officer's contact information is listed in the section immediately above or it can be obtained from the General Services Administration's FACA Database: http://www.facadatabase.gov/committee/committee.aspx?cid=1663&aid=41. Written statements that do not pertain to a scheduled meeting of the Committee may be submitted at any time. However, if individual comments pertain to a specific topic being discussed at a planned meeting, then these statements must be submitted no later than five business days prior to the meeting in question. The Designated Federal Officer will review all submitted written statements and provide copies to all committee members.

Dated: March 14, 2014.
Aaron Siegel,
Alternate OSD Federal Register Liaison Officer, Department of Defense.

[FR Doc. 2014-06018 Filed 3-18-14; 8:45 am]

BILLING CODE 5001-06-P